DEPARTMENT OF THE INTERIOR

Fish and Wildlife Service

[FWS-R9-IA-2009-N227 96300-1671-0000-P5]

Issuance of Permits

AGENCY: Fish and Wildlife Service, Interior.

ACTION: Notice of issuance of permits.

SUMMARY: We, the U.S. Fish and Wildlife Service (Service), have issued the following permits to conduct certain activities with endangered species.

ADDRESSES: Documents and other information submitted with these applications are available for review, subject to the requirements of the Privacy Act and Freedom of Information Act, by any party who submits a written request for a copy of such documents to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION: Notice is hereby given that on the dates below, as authorized by the provisions of the Endangered Species Act of 1973, as amended (16 U.S.C. 1531 et seq.), the Fish and Wildlife Service issued the requested permits subject to certain conditions set forth therein. For each permit for an endangered species, the Service found that (1) the application was filed in good faith, (2) the granted permit would not operate to the disadvantage of the endangered species, and (3) the granted permit would be consistent with the purposes and policy set forth in Section 2 of the Endangered Species Act of 1973, as amended.

Endangered Species
Permit number | Applicant | Receipt of application Federal Register notice | Permit issuance date
064209, 107740, 107741, 107742 | Hollywood Animals, Inc. | 74 FR 37240; July 28, 2009 | October 8, 2009
114454 and 206853 | Ferdinand and Anton Fercos-Hantig | 74 FR 37240; July 28, 2009 | September 18, 2009
210111 | Erie Zoo | 74 FR 37240; July 28, 2009 | October 1, 2009
212209 | David J. Beck, Jr. | 74 FR 37240; July 28, 2009 | September 4, 2009
213427 | Brian H. Welker | 74 FR 28523; June 16, 2009 | July 20, 2009
213734 | National Institutes of Health, Laboratory of Genomic Diversity | 74 FR 21817; May 11, 2009 | September 30, 2009
215732 | University of California, Santa Cruz | 74 FR 40230; August 11, 2009 | September 24, 2009
215717 | Duke University, Department of Evolutionary Anthropology | 74 FR 32192; July 7, 2009 | August 26, 2009
217091 | John C. Sigler | 74 FR 37240; July 28, 2009 | September 4, 2009
217132 | Larry D. Bernhardt | 74 FR 37240; July 28, 2009 | September 24, 2009
217321 | Fort Wayne Zoological Society | 74 FR 37240; July 28, 2009 | October 9, 2009
217634 | Kevin Atkinson | 74 FR 32192; July 7, 2009 | September 22, 2009
217639 | George H. Brannen | 74 FR 46222; September 8, 2009 | October 8, 2009
219123 | Pamela M. Cooper | 74 FR 37240; July 28, 2009 | September 24, 2009
219600 | Vance D. Coffman | 74 FR 40230; August 11, 2009 | September 29, 2009
219627 | Clint Chamberlain | 74 FR 40230; August 11, 2009 | October 15, 2009
219683 | Thomas A. Fraley | 74 FR 40230; August 11, 2009 | September 24, 2009
220498 | Gregory G. Rodriguez | 74 FR 40230; August 11,2009 | August 28, 2009
220517 | Randall R. Foster | 74 FR 40230; August 11, 2009 | September 24, 2009
220669 | James M. Beier | 74 FR 40230; August 11, 2009 | September 24, 2009
220877 | Robert M. Bensinger | 74 FR 40230; August 11, 2009 | September 29, 2009
223180 | Nick Misciagna | 74 FR 41454; August 17, 2009 | September 23, 2009
223187 | Patrick T. O'Brien | 74 FR 46222; September 8, 2009 | October 8, 2009
724540 | Archie Carr Center for Sea Turtle Research | 74 FR 40230; August 11, 2009 | October 8, 2009
809334 | Ferdinand and Anton Fercos-Hantig | 74 FR 37240; July 28, 2009 and 74 FR 46222; September 8, 2009 | October 9, 2009

Dated: October 16, 2009
Lisa J. Lierheimer
Senior Permit Biologist, Branch of Permits, Division of Management Authority

[FR Doc. E9-25638 Filed 10-23-09; 8:45 am]

BILLING CODE 4310-55-S